DEPARTMENT OF EDUCATION

34 CFR Chapter III

[CFDA Number: 84.133B-11]

Proposed Priority—National Institute on Disability and Rehabilitation Research—Rehabilitation Research and Training Centers

AGENCY: Office of Special Education and Rehabilitative Services, Department of Education.

ACTION: Proposed priority.

SUMMARY: The Assistant Secretary for Special Education and Rehabilitative Services proposes a priority under the Rehabilitation Research and Training Center (RRTC) Program administered by the National Institute on Disability and Rehabilitation Research (NIDRR). Specifically, this notice proposes a priority for an RRTC on Community Living Policy. We take this action to focus research attention on areas of national need. We intend the priority to contribute to improved outcomes in this area for individuals with disabilities.

DATES: We must receive your comments on or before June 14, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priority for an RRTC on Community Living Policy” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION: This proposed priority is in concert with NIDRR's Long-Range Plan for Fiscal Years 2013-2017 (Plan). The Plan, which was published in the Federal Register on April 4, 2013 (78 FR 20299), can be accessed on the Internet at the following site: www.ed.gov/about/offices/list/osers/nidrr/policy.html.

Through the implementation of the Plan, NIDRR seeks to improve outcomes for individuals with disabilities in the domains of health and function, employment, and community living and participation through comprehensive programs of research, engineering, training, technical assistance, and knowledge translation and dissemination. The Plan reflects NIDRR's commitment to quality, relevance, and balance in its programs to ensure appropriate attention to all aspects of well-being of individuals with disabilities and to all types and degrees of disability, including low-incidence and severe disabilities.

This notice proposes a priority that NIDRR intends to use for one or more competitions in Fiscal Year (FY) 2013 and possibly later years. However, nothing precludes NIDRR from publishing additional priorities, if needed. Furthermore, NIDRR is under no obligation to make an award using this priority. The decision to make an award will be based on the quality of applications received and available funding.

Invitation to Comment: We invite you to submit comments regarding this priority. To ensure that your comments have maximum effect in developing the final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350.

Proposed Priority

This notice contains one proposed priority.

RRTC on Community Living Policy

Background: It is estimated that there are 51.5 million adults with disabilities in the United States (Brault, 2012). This number is expected to increase by at least 20 percent in the next 25 to 30 years, primarily as a result of the aging of the baby boom generation and the associated increased risk of disability (IOM, 2007).

The Americans with Disabilities Act (1990) (ADA), as reaffirmed by the Supreme Court in Olmstead et al. v. L.C. et al., 527 U.S. 581 (1999), established that the segregation of individuals with disabilities is discrimination, except in special and uncommon circumstances. Since the Olmstead decision, the Federal Government has enforced the ADA through litigation (e.g., United States v. Commonwealth of Virginia 2012) and through programs that provide enhanced opportunities and incentives for the use of community settings other than segregated nursing and other institutional care settings (Centers for Medicare and Medicaid Services, 2012).

Progress in fulfilling the mandates and promises of the ADA and the Olmstead decision has been steady. Between FY 2002 and FY 2009, 77 percent of the increase in Medicaid long-term service and support (LTSS) expenditures went to home and community-based services (National Council on Disability, 2011). However, Medicaid expenditures for institutional care continue to exceed those for home and community-based services. Furthermore, great disparities exist in access to home and community-based services across the States and among people with different disability characteristics (Eiken, Sredl, Burwell & Gold, 2010). A number of factors associated with such variations have been identified, including differences in the influence of condition-specific advocacy groups, support of service provider trade associations and service employee unions, strength of political leadership and the capacity of States to advance reforms on multiple fronts, and the expectations and demands of individuals with disabilities and their families (Parish, 2002).

In March 2013, the U.S. Department of Health and Human services (HHS) launched a new Community Living Council in support of the “Secretary's Strategic Initiative to Promote Community Living for Older Adults and People with Disabilities” (Initiative) (U.S. Department of Health and Human Services, 2013). The Initiative is an effort to increase opportunities for individuals with disabilities to be maximally integrated, productive, and independent in the communities in which they choose to live. To this end the Initiative engages multiple HHS agencies and partners from other Departments to assist States in making their systems of LTSS more community-based, consumer-directed, and outcome-focused and better integrated with the transformations occurring in health care.

The Initiative includes major efforts to provide factual, accessible, and easily understood information to individuals with disabilities and their families about LTSS options and the outcomes associated with them. The Initiative also includes efforts to inform and empower consumers and their family caregivers with the best data and information available so that they can participate actively in designing, implementing, and improving State systems of services and supports, including emerging models of integrated health care and LTSS.

The intent of the Initiative corresponds directly with NIDRR's mission to generate new knowledge and promote its effective use to improve the abilities of people with disabilities to perform activities of their choice in the community and to expand society's capacity to provide full opportunities and accommodations for its citizens with disabilities. To further the central goals of the Initiative, NIDRR is partnering with the Administration for Community Living, a part of HHS, to create a national RRTC on Community Living Policy. The purpose of this RRTC will be to engage in research, data analysis and modeling, knowledge translation, and development of informational products to support improvements in community living services and supports for individuals with disabilities.

References

Brault, M.W. (2012). Americans with disabilities: 2010, Current population reports, pp. 70-131. Washington, DC: U.S. Census Bureau, U.S. Department of Commerce. Available from: www.census.gov/prod/2012pubs/p70-131.pdf.

Centers for Medicare and Medicaid Services (2012). Money follows the person. Available from: www.medicaid.gov/Medicaid-CHIP-Program-Information/By-Topics/Long-Term-Services-and-Support/Balancing/Money-Follows-the-Person.html.

Eiken, S., Sredl, K., Burwell, B., & Gold, L. (2010). Medicaid long-term care expenditures in FY 2009. Cambridge, MA: Thomson Reuters.

Institute of Medicine (IOM) (2007). The future of disability in America. Washington, DC: The National Academies Press.

National Council on Disability (2011). National disability policy: A progress report. Washington, DC: Author.

Parish, S. (2002). Forces shaping developmental disabilities services in the States: A comparative study. In D. Braddock (Ed.), Disability at the dawn of the 21st century, pp. 353-475. Washington, DC: American Association on Intellectual and Developmental Disability.

United States v. Commonwealth of Virginia, No. 3:12cv59-JAG (E.D. VA. 2012). Consent Decree available from: www.ada.gov/olmstead/documents/virginia_consent_order.pdf.

U.S. Department of Health and Human Services (2013). Community Living Initiative. Available from: www.hhs.gov/od/community/index.html.

Proposed Priority: The Assistant Secretary for Special Education and Rehabilitative Services, in collaboration with the Administration on Community Living (ACL), proposes a priority for an RRTC on Community Living Policy. The RRTC will engage in research, statistical analyses and modeling, knowledge translation, development of informational products, and dissemination to contribute to increased access to, and improved quality of, long-term services and supports for individuals with disabilities. The RRTC's work is intended to inform the design, implementation, and continuous improvement of Federal and State policies and programs related to long-term services and supports (LTSS) for individuals with disabilities. The RRTC will identify and develop information for individuals with disabilities and their family members to guide their informed choice of community service and support options that best meet their needs.

The RRTC must be designed to contribute to improved community living and participation outcomes of individuals with disabilities. The RRTC must contribute to these outcomes by:

(a) Establishing a long-term research plan related to community living policy. This plan, once implemented, must contribute relevant and high-quality data and information that will serve as an empirical foundation for improving community living policies and programs for individuals with disabilities. This task includes:

(i) Developing and prioritizing a list of research questions and evaluation topics that, when addressed, will lead to research-based information that can be used to improve community living policies, programs, and outcomes;

(ii) Working with NIDRR and ACL to identify relevant data sets and informational resources that can be analyzed to address the questions and topics in the research plan.

(b) Conducting research and research syntheses to identify and evaluate promising practices that States have used and could adopt as part of their State systems for the provision of LTSS. This task includes:

(i) Identifying components of national or State standards for “model” LTSS State systems; and

(ii) Identifying and assessing methods for monitoring, tracking, and evaluating States' LTSS systems.

(c) Identifying and involving key stakeholders in the research and research planning activities conducted under paragraphs (a) and (b) to maximize the relevance and usefulness of the research products being developed. Stakeholders must include, but are not limited to, individuals with disabilities and their families, national, State, and local-level policymakers, service providers, and relevant researchers in the field of disability and rehabilitation research.

(d) Identifying, evaluating, and disseminating accessible information at the national, State, and provider levels on topics of importance to the development and implementation of high-quality community living policies and programs. These topics include, but are not limited to: Transitions from fee-for-service to integrated/managed LTSS systems and associated outcomes and costs; transitions from agency-directed to consumer-directed services and associated outcomes and costs; costs and benefits of various supports for individuals and families, such as care coordination, respite care, and remote monitoring; and other topics to be determined in collaboration with key stakeholders and NIDRR and ACL representatives.

(e) Establishing a network of technical assistance providers and advocacy entities to assist in synthesizing and disseminating information related to implementing high-quality community living policies, programs, and practices for individuals with disabilities. Network members may include, but are not limited to: The Americans with Disabilities Act National Network Regional Centers, the Aging and Disability Resource Centers, the Governor's Planning Councils on Developmental Disabilities, the Money Follows the Person Technical Assistance Center, Client Assistance Programs, and Protection and Advocacy Programs.

(f) Serving as a national resource center related to community living policy by:

(i) Providing information and technical assistance to service providers, individuals with disabilities and their representatives, and other key stakeholders; and

(ii) Providing training, including graduate, pre-service, and in-service training, to rehabilitation providers, rehabilitation research personnel, and other disability service providers, to facilitate more effective delivery of services to individuals aging with long-term physical disabilities. This training may be provided through conferences, workshops, public education programs, in-service training programs, and similar activities.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that this proposed priority is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the RRTC Program have been well established over the years, as projects similar to the one envisioned by the proposed priority have been completed successfully. The new RRTC would generate, disseminate, and promote the use of new information that would improve outcomes for individuals with disabilities in the area of community living and participation.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 9, 2013.
Michael K. Yudin,
Delegated the authority to perform the functions and the duties of the Assistant Secretary for Special Education and Rehabilitative Services.

[FR Doc. 2013-11430 Filed 5-14-13; 8:45 am]

BILLING CODE 4000-01-P